DEPARTMENT OF HOUSING AND URBAN DEVELOPMENT

[Docket No. FR-4817-N-14]

Notice of Proposed Information Collection for Public Comment for Public Housing, Contracting With Resident-Owned Businesses

AGENCY: Office of the Assistant Secretary for Public and Indian Housing, HUD.

ACTION: Notice.

SUMMARY: The proposed information collection requirement described below will be submitted to the Office of Management and Budget (OMB) for review and approval, as required by the Paperwork Reduction Act (44 U.S.C. chapter 35, as amended). The Department is soliciting public comment on the subject proposal.

DATES: Comments Due Date: October 28, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614 extension 4128. (This is not a toll-free number.)

SUPPLEMENTARY INFORMATION: In order to be eligible for the alternative procurement process provided by 24 CFR part 963, resident-owned businesses must submit evidence to PHAs indicating that they meet eligibility requirements as defined in 24 CFR 963.10. Resident owned-businesses must furnish evidence to PHAs that they are: A legally formed business; a resident-owned business; have the capacity to complete the work contract; and have a limited number of contracts obtained through the alternative procurement process. Although PHAs are not required to use the alternative procurement method, they are required to collect eligibility requirements from resident-owned businesses when using this procurement method.

This Notice is soliciting comments from members of the public and affected agencies (PHAs) concerning the proposed collection of information to: (1) Evaluate whether the proposed collection of information is necessary for the proper performance of the functions of the agencies, including whether the information will have practical utility; (2) evaluate the accuracy of HUD's estimate of the burden for collecting said information; (3) enhance the quality, utility, and clarity of the information to be collected; and (4) minimize the burden of the collection of information on those who are to respond.

This Notice also lists the following information:

Title of Proposal: Public Housing, Contracting with Resident-Owned Businesses Application Requirements.

OMB Control Number: 2577-0161.

Description of the need for the information and proposed use: The information is Necessary so that the applicants (resident-owned businesses) seeking to qualify for non-Competitive contracting the Public Housing Agency (PHA) will be eligible to be solicited by the PHA as a contractor for a proposed contract.

Members of the affected public: Individuals or households; State or local governments; nonprofit institutions; small businesses or organizations.

Estimate of the total number of hours needed to prepare the information collection including the number of respondents, frequency of response and hours of response: 500 respondents, annually, 16 hours per response, 8,000; recordkeeping, 500 respondents, annually, one hour per response, 500 hours. The total burden is 8,500.

Status of the proposed information collection: Extension, without change.

Authority: Sec. 3506 of the Paperwork Reduction Act of 1995, 44 U.S.C. chapter 35, as amended.

Dated: August 22, 2003.
Michael Liu,
Assistant Secretary for Public and Indian Housing.

[FR Doc. 03-22087 Filed 8-20-03; 8:45 am]

BILLING CODE 4210-33-M